DEPARTMENT OF EDUCATION

34 CFR Chapter II

DEPARTMENT OF HEALTH AND HUMAN SERVICES

45 CFR Subtitle A, Subchapter A

[Docket ID ED-2013-OESE-0046]

RIN 1801-AA13

Proposed Priorities, Requirements, Definitions, and Selection Criteria—Race to the Top—Early Learning Challenge

[CFDA Number: 84.412A.]

AGENCY: Department of Education and Department of Health and Human Services.

ACTION: Proposed priorities, requirements, definitions, and selection criteria.

SUMMARY: The Secretary of Education and Secretary of Health and Human Services (“the Secretaries”) propose priorities, requirements, definitions, and selection criteria under the Race to the Top—Early Learning Challenge (RTT-ELC) Grant program. The Secretaries may use one or more of these priorities, requirements, definitions, and selection criteria for competitions in fiscal year (FY) 2013 and later years.

The U.S. Department of Education (ED) and the U.S. Department of Health and Human Services (HHS) (collectively, “the Departments”) conducted the first competition under the RTT-ELC program in FY 2011 and awarded grants to nine States. In FY 2012, the five next highest-rated applicants on the slate of high-scoring applications from the FY 2011 competition were funded at up to 50 percent of the funds each requested in their FY 2011 applications.

We propose to maintain the overall purpose and structure of the FY 2011 RTT-ELC competition in future competitions. These proposed priorities, requirements, definitions, and selection criteria are almost identical to the ones used in the FY 2011 competition. We describe the changes at the beginning of each section of this document.

DATES: We must receive your comments on or before June 19, 2013, and we encourage you to submit comments well in advance of this date.

ADDRESSES: Submit your comments through the Federal eRulemaking Portal or via postal mail, commercial delivery, or hand delivery. We will not accept comments by fax or by email. To ensure we do not receive duplicate comments, please submit your comments only once. In addition, please include the Docket ID and the term “Early Learning Challenge Grant-Comments” at the top of your comments.

Federal e-Rulemaking Portal: Go to www.regulations.gov to submit your comments electronically. Information on using Regulations.gov, including instructions for accessing agency documents, submitting comments, and viewing the docket, is available on the site under “Are you new to the site?”

Postal Mail, Commercial Delivery, or Hand Delivery. If you mail or deliver your comments about these proposed priorities, requirements, definitions, or selection criteria, address them to the Office of Elementary and Secondary Education (Attention: Early Learning Challenge Grant—Comments), U.S. Department of Education, 400 Maryland Avenue SW., room 3E245, Washington, DC 20202-6200.

Privacy Note: The Departments' policies are to make all comments received from members of the public available for public viewing in their entirety on the Federal eRulemaking Portal at www.regulations.gov. Therefore, commenters should be careful to include in their comments only information that they wish to make publically available.

FOR FURTHER INFORMATION CONTACT: Miriam Lund. Telephone: (202) 401-2871 or by email: miriam.lund@ed.gov.

If you use a telecommunications device for the deaf (TDD) or a text telephone (TTY), call the Federal Relay Service (FRS), toll free, at 1-800-877-8339.

SUPPLEMENTARY INFORMATION:

Executive Summary

Purpose of This Regulatory Action: The purpose of this document is to propose priorities, requirements, definitions, and selection criteria for the RTT-ELC program that will enable effective grant making and result in high-quality proposals from States. The RTT-ELC program focuses Federal financial resources on improving early learning and development for young children by supporting States' efforts to increase the number and percentage of low-income and disadvantaged children in each age group of infants, toddlers, and preschoolers who are enrolled in high-quality early learning and development programs; design and implement an integrated system of high-quality early learning and development programs and services directly resulting in more children, especially those with high needs, entering kindergarten ready to succeed in school and in life; and ensure that any use of assessments conforms with the recommendations of the National Research Council ¹ reports on early childhood.²

¹ National Research Council. (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. www.nap.edu/catalog.php?record_id=12446.

² See Department of Defense and Full-Year Continuing Appropriations Act, 2011, Division B, § 1832(b), Public Law 112-10 (April 15, 2011).

Summary of the Major Provisions of This Regulatory Action: The RTT-ELC program is designed to build on the momentum of other Race to the Top competitions by improving State systems of early care and education in order to prepare more children for kindergarten. The priorities, requirements, definitions, and selection criteria proposed in this document are almost identical to those we used in the FY 2011 competition. Through future competitions using these proposed priorities, requirements, definitions, and selection criteria, we will again invite applicants to demonstrate how they can transform their early learning systems with better coordination among various State Participating Agencies,³ improved standards, and meaningful education and training for early childhood educators.

³ Terms with initial capitalization are defined in the Definition section of this document.

In that regard, through future competitions, the Department will encourage and reward States that have the leadership and vision to develop successful State systems that:

• Support an ambitious early learning and reform agenda;

• Align and raise standards for existing early learning programs, including Head Start, public preschool, childcare, home visiting, Part B, Section 619 and Part C programs under the Individuals with Disabilities Education Act (IDEA), and private preschools;

• Provide information to families about the quality of programs;

• Promote early learning and development outcomes across Essential Domains of School Readiness for all children, reflected in clear standards that detail what children should know and be able to do and are measured through comprehensive assessment systems;

• Build a great early childhood education workforce, supported by strategies to train, support, and retain high-quality teachers, providers, and administrators; and

• Measure outcomes and progress using Comprehensive Assessment Systems and Kindergarten Entry Assessments (KEA); and develop or enhance data systems.

These proposed priorities, requirements, definitions, and selection criteria are designed to help States meet these goals and are almost identical to those we used in the FY 2011 competition with the exception of minor language clarifications and five substantive changes. We are proposing to (1) Revise the KEA priority(Proposed Priority 3) to simplify scoring; (2) revise and rename the priority designed to sustain and build upon early learning outcomes from preschool-through-third grade (Proposed Priority 4); (3) revise the requirements to reduce the maximum grant amounts for which an applicant may apply;(4) revise the program requirements to require that States have an operational State Advisory Council on Early Childhood Education and Care, and that this council include the administrator from the State's Child Care and Development Fund program, representatives from both Part B and Part C of IDEA, and State agency representatives responsible for health and mental health; and (5)add a new eligibility requirement excluding States that previously received funding for a RTT-ELC grant.

We believe these proposed changes will improve the peer review evaluation; strengthen the gains from early learning outcomes from preschool through the early elementary school years; and enable the Departments to maximize the number of grantees that would receive funding while still awarding grants of sufficient size to support ambitious yet achievable early learning reforms.

The remaining priorities proposed in this notice (priorities 1, 2, and 5) are unchanged from those we used in the FY 2011 competition.

Costs and Benefits: The cost imposed on applicants by these priorities, requirements, definitions, and selection criteria would be limited to paperwork burden related to preparing an application. Benefits would outweigh any costs to applicants. The costs of carrying out activities would be paid for with RTT-ELC grant funds. The costs of implementation would not be a burden for any eligible applicant, including small entities. Please refer to the Regulatory Impact Analysis in this document for a more complete discussion of the costs and benefits of this regulatory action.

This document provides an accounting statement that estimates that approximately $300 million will transfer from the Federal Government to States under this program. Please refer to the accounting statement in this document for a more detailed discussion.

Invitation to Comment: We invite you to submit comments on this document. To ensure that your comments have maximum effect in developing the final priorities, requirements, definitions, and selection criteria, we urge you to identify clearly the specific proposed priority, requirement, definition, and or selection criterion that each comment addresses.

We invite you to assist us in complying with the specific requirements of Executive Orders 12866 and 13563 and their overall requirement of reducing regulatory burden that might result from these proposed priorities, requirements, definitions, and selection criteria. Please let us know of any further ways we could reduce potential costs or increase potential benefits while preserving the effective and efficient administration of the program.

During and after the comment period, you may inspect all public comments about this notice by accessing Regulations.gov. You may also inspect the comments in person in room 3E245, 400 Maryland Avenue SW., LBJ Building, Washington, DC 20202-6200, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program

The purpose of the RTT-ELC program is to improve the quality of early learning and development and close the educational gaps for Children with High Needs. This program focuses on improving early learning and development for young children by supporting States' efforts to increase the number and percentage of low-income and disadvantaged children, in each age group of infants, toddlers, and preschoolers, who are enrolled in high-quality early learning and development programs; and to design and implement an integrated system of high-quality early learning and development programs and services.

Program Authority: Sections 14005 and 14006, Division A, of the American Recovery and Reinvestment Act of 2009, as amended by section 1832(b) of Division B of Pub. L. 112-10, the Department of Defense and Full-Year Continuing Appropriations Act, 2011, and the Department of Education Appropriations Act, 2012 (Title III of Division F of Pub. L. 112-74, the Consolidated Appropriations Act, 2012).

Backgound

The Statutory Context and Program Overview

Race to the Top—Early Learning Challenge

A critical focus of the Departments is supporting America's youngest learners and helping ensure that children, especially Children with High Needs, enter kindergarten ready to succeed in school and in life. A robust body of research demonstrates that high-quality early learning and development programs and services can improve young children's health, social-emotional, and cognitive outcomes; enhance school readiness; and help close the educational gaps 4 5 that exist between Children with High Needs and their peers at the time they enter kindergarten.6 7

⁴ Camilli, G., Vargas, S., Ryan, S., & Barnett, W. S. (2010). Meta-analysis of the effects of early education interventions on cognitive and social development. Teachers College Record, 112(3), 579-620.

⁵ Reynolds, A.J., Temple, J.A., Ou, S., Arteaga, I.A., & White, B.A.B. (2011). School-based early childhood education and age-28 well-being: effects by timing, dosage, and subgroups. Science, Retrieved from www.sciencemag.org/content/early/2011/06/08/science.1203618.abstract doi: 10.1126/science.1203618.

⁶ Princiotta, D., Flanagan, K. D., and Germino Hausken, E. (2006). Fifth Grade: Findings From The Fifth-Grade Follow-up of the Early Childhood Longitudinal Study, Kindergarten Class of 1998-99 (ECLS-K). (NCES 2006-038) U.S. Department of Education.

⁷ Halle, T., Forry, N., Hair, E., Perper, K., Wandner, L., Wessel, J., & Vick, J.(2009). Disparities in Early Learning and Development: Lessons from the Early Childhood Longitudinal Study—Birth Cohort (ECLS-B). Washington, DC: Child Trends.

To address this educational gap, the Departments have identified, as high priorities, strengthening the quality of existing early learning and development programs and increasing access to high-quality Early Learning and Development Programs for all children, especially for Children with High Needs.

On May 25, 2011, Secretaries Arne Duncan and Kathleen Sebelius announced the RTT-ELC, a new $500 million State-level grant competition authorized under the American Recovery and Reinvestment Act of 2009 (ARRA), as amended by section 1832(b) of the Department of Defense and Full-Year Continuing Appropriations Act, 2011. Through the RTT-ELC program, the Departments seek to help close the educational gaps between Children with High Needs and their peers by supporting State efforts to build strong systems of early learning and development that provide increased access to high-quality programs for the children who need them most.

The FY 2011 RTT-ELC competition ⁸ represented an unprecedented opportunity for States to focus deeply on their early learning and development systems for children from birth through age five. (See notice inviting applications for the competition, published in the Federal Register on August 26, 2011 (76 FR 53564)). Through the FY 2011 RTT-ELC competition, States were given an opportunity to build a more unified approach to supporting young children and their families—an approach that increases access to high-quality early learning and development programs and services, and helps ensure that children enter kindergarten with the skills, knowledge, and dispositions toward learning they need to be successful in school and in life.

⁸ Section 437(d)(1) of GEPA exempts the Secretary of Education from rulemaking requirements governing the first grant competition under a new or substantially revised program authority. We utilized this authority to forgo formal rulemaking for the FY2011 RTT-ELC competition, instead soliciting informal public participation through the ED.gov Web site.

In December 2011, the Departments made awards to the nine highest-scoring applications from the FY 2011 RTT-ELC competition: California, Delaware, Maryland, Massachusetts, Minnesota, North Carolina, Ohio, Rhode Island, and Washington.

On December 23, 2011, Public Law 112-74, the Consolidated Appropriations Act, 2012, which made $550 million available for the Race to the Top Fund, was signed into law. This legislation authorized the Secretary of Education to make Race to the Top Fund awards on “the basis of previously submitted applications.”

On April 9, 2012, the Departments announced that approximately $133 million of the $550 million appropriated for the Race to the Top Fund would be made available to the next five highest scoring applicants from the FY 2011 RTT-ELC competition. These five applicants, each of which received approximately 75 percent or more of the available points under the competition, received awards: Colorado, Illinois, New Mexico, Oregon, and Wisconsin.

The FY 2011 RTT-ELC competition identified five key reform areas representing the foundation of an effective early learning and development reform agenda focused on school readiness and ongoing educational success. These areas, which provided a framework for the competition's priorities, requirements, definitions, and selection criteria, are as follows:

(A) Successful State Systems;

(B) High-Quality, Accountable Programs;

(C) Promoting Early Learning and Development Outcomes for Children;

(D) A Great Early Childhood Education Workforce; and

(E) Measuring Outcomes and Progress.

The first two of these reform areas, (A) and (B), are core areas of focus for this program (“Core Areas”), and applicants under the FY 2011 RTT-ELC competition were required to respond to all selection criteria under these Core Areas. The reform areas in (C), (D), and (E) that targeted attention to specific activities are relevant to individual States (“Focused Investment Areas”). Applicants were required to address each Focused Investment Area but not each of the selection criteria under them.

In this notice, we propose specific priorities, requirements, definitions, and selection criteria that the Departments could choose to use in future competitions. The priorities, requirements, definitions, and selection criteria proposed in this notice are in large part identical to those in the FY 2011 notice inviting applications.

Proposed Priorities

Changes from the FY 2011 competition

Priority 3

We propose to revise Priority 3 by deleting sub-bullet (1). This change will simplify scoring by requiring all applicants to address the KEA in one location in the application: selection criterion (E)(1). The revised priority is: “Understanding the Status of Children's Learning and Development at Kindergarten Entry. To meet this priority, the State must, in its application address selection criterion (E)(1) and earn a score of at least 70 percent of the maximum points available for that criterion.”

The original priority for the reader's reference was: “Understanding the Status of Children's Learning and Development at Kindergarten Entry.

—To meet this priority, the State must, in its application—

—Demonstrate that it has already implemented a Kindergarten Entry Assessment that meets selection criterion (E)(1) by indicating that all elements in Table (A)(1)-12 are met; or

—Address selection criterion (E)(1) and earn a score of at least 70 percent of the maximum points available for that criterion.”

Priority 4

We propose to revise Priority 4 to emphasize the importance of sustaining and building upon early learning outcomes from preschool through the early elementary school years. We propose this revision to improve all transitions for children across the birth-through-third-grade continuum and to encourage States to be focused on increasing the percentage of children able to read and do mathematics at grade level by the end of the third grade. The revised priority is: “Creating Approaches to Sustain Improved Early Learning Outcomes through the Early Elementary Grades.

Priority 4 is designed to sustain and build upon early learning outcomes through the early elementary school years. To meet this priority, the State must have a High-Quality Plan to improve the overall quality, alignment, and continuity of teaching and learning to serve children from preschool through third grade by engaging in activities such as—

(a) Enhancing the State's kindergarten-through-third-grade standards to align them with the State's Early Learning and Development Standards across all Essential Domains of School Readiness;

(b) Identifying and addressing the health, behavioral, and developmental needs of Children with High Needs from preschool through third grade;

(c) Implementing teacher preparation and professional development programs and strategies that emphasize developmental science, pedagogy, and the delivery of developmentally appropriate content for teachers serving children from preschool through grade 3;

(d) Implementing model systems of collaboration both within and between early learning and development programs and elementary schools to improve all transitions for children across the birth through third grade continuum;

(e) Building or enhancing data systems to monitor the status of children's learning and development from preschool through third grade to support student progress in meeting critical educational benchmarks in the early elementary grades;

(f) Initiatives designed to increase the percentage of children who are able to read and do mathematics at grade level by the end of the third grade; and

(g) Leveraging existing Federal, State, and local resources, including but not limited to funds received under Title I and Title II of ESEA, as amended, and IDEA.”

The original priority for the reader's reference was: “Sustaining Program Effects in the Early Elementary Grades.

The Departments are particularly interested in applications that describe the State's High-Quality Plan to sustain and build upon improved early learning outcomes throughout the early elementary school years, including by—

(a) Enhancing the State's current standards for kindergarten through grade 3 to align them with the Early Learning and Development Standards across all Essential Domains of School Readiness;

(b) Ensuring that transition planning occurs for children moving from Early Learning and Development Programs to elementary schools;

(c) Promoting health and family engagement, including in the early grades;

(d) Increasing the percentage of children who are able to read and do mathematics at grade level by the end of the third grade; and

(e) Leveraging existing Federal, State, and local resources, including but not limited to funds received under Title I and Title II of ESEA, as amended, and IDEA.”

Proposed Priorities: The Secretaries propose five priorities. The Departments may apply one or more of these priorities in any year in which a competition for program funds is held.

Priority 1: Promoting School Readiness for Children with High Needs.

To meet this proposed priority, the State's application must comprehensively and coherently address how the State will build a system that increases the quality of Early Learning and Development Programs for Children with High Needs so that they enter kindergarten ready to succeed.

The State's application must demonstrate how it will improve the quality of Early Learning and Development Programs by integrating and aligning resources and policies across Participating State Agencies and by designing and implementing a common, statewide Tiered Quality Rating and Improvement System. In addition, to achieve the necessary reforms, the State must make strategic improvements in those areas that will most significantly improve program quality and outcomes for Children with High Needs. Therefore, the State must address those criteria from within each of the Focused Investment Areas (sections (C) Promoting Early Learning and Development Outcomes for Children, (D) A Great Early Childhood Education Workforce, and (E) Measuring Outcomes and Progress) that it believes will best prepare its Children with High Needs for kindergarten success.

Priority 2: Including all Early Learning and Development Programs in the Tiered Quality Rating and Improvement System.

Proposed Priority 2 is designed to increase the number of children from birth to kindergarten entry who are participating in programs that are governed by the State's licensing system and quality standards, with the goal that all licensed or State-regulated programs will participate. The State will meet this priority based on the extent to which the State has in place, or has a High-Quality Plan to implement no later than June 30th of the fourth year of the grant—

(a) A licensing and inspection system that covers all programs that are not otherwise regulated by the State and that regularly care for two or more unrelated children for a fee in a provider setting; provided that if the State exempts programs for reasons other than the number of children cared for, the State may exclude those entities and reviewers will determine whether an applicant has met this priority only on the basis of non-excluded entities; and

(b) A Tiered Quality Rating and Improvement System in which all licensed or State-regulated Early Learning and Development Programs participate.

Priority 3: Understanding the Status of Children's Learning and Development at Kindergarten Entry.

To meet this proposed priority, the State must, in its application, address selection criterion (E)(1) and earn a score of at least 70 percent of the maximum points available for that criterion.

Priority 4: Creating Preschool through Third Grade Approaches to Sustain Improved Early Learning Outcomes through the Early Elementary Grades.

Proposed Priority 4 is designed to sustain and build upon early learning outcomes from preschool through the early elementary school years, including by leveraging existing Federal, State, and local resources. The State will meet this priority based on the extent to which it describes a High-Quality Plan to improve the overall quality, alignment, and continuity of teaching and learning to serve children from preschool through third grade through such activities as—

(a) Enhancing the State's kindergarten-through-third-grade standards to align them with the State's Early Learning and Development Standards across all Essential Domains of School Readiness;

(b) Identifying and addressing the health, behavioral, and developmental needs of Children with High Needs from preschool through third grade;

(c) Implementing teacher preparation and professional development programs and strategies that emphasize developmental science, pedagogy, and the delivery of developmentally appropriate content for teachers serving children from preschool through grade 3;

(d) Implementing model systems of collaboration both within and between early learning and development programs and elementary schools to improve all transitions for children across the birth through third grade continuum;

(e) Building or enhancing data systems to monitor the status of children's learning and development from preschool through third grade to support student progress in meeting critical educational benchmarks in the early elementary grades; and

(f) Other efforts designed to increase the percentage of children who are able to read and do mathematics at grade level by the end of the third grade.

Priority 5: Encouraging Private-Sector Support.

The State will meet this priority based on the extent to which it describes how the private sector will provide financial and other resources to support the State and its Participating State Agencies or Participating Programs in the implementation of the State Plan.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Eligibility Requirements

Changes from the FY 2011 competition

Eligibility Requirement 1(a)

We propose to eliminate the eligibility requirement requiring an operational State Advisory Council on Early Childhood Education and Care due to the elimination of Federal funding for this activity and the difficulty in determining whether a State has an operational State Advisory Council at the time of application. We have made this a program requirement instead, which will mean that the Council does not need to be operational at the time of application but must be reinstated or maintained throughout the grant period.

We also propose to add a new eligibility requirement excluding States that previously received funding for a RTT-ELC grant. This proposed eligibility requirement would increase the number of States with ambitious early learning reforms that promote early learning and development outcomes for all children.

The revised eligibility requirement is: The State has not previously received an RTT-ELC grant.

Eligibility Requirement (1)(c)

In eligibility requirement (1)(c), we propose a revision that states the applicant must have an active Maternal, Infant, and Early Childhood Home Visiting (MIECHV) program in the State. In the FY 2011 competition, we required applicants to have submitted their MIECHV plans for FY 2010 and an application for formula funding under the MIECHV program. However, we are proposing to update this requirement to reflect that all States that currently have an active MIECHV program would be eligible for funding.

The revised eligibility requirement is: “(c) There must be an active Maternal, Infant, and Early Childhood Home Visiting (MIECHV) program in the State, either through the State under section 511(c) of Title V of the Social Security Act, as added by section 2951 of the Affordable Care Act of 2010 (Pub. L. 111-148), or through an eligible non-profit organization under section 511(h)(2)(B).)).

The original eligibility requirement for the reader's reference was: “(c) The State must have submitted in FY 2010 an updated MIECHV State plan and FY 2011 Application for formula funding under the Maternal, Infant, and Early Childhood Home Visiting program (see section 511 of Title V of the Social Security Act, as added by section 2951 of the Affordable Care Act of 2010 (P.L. 111-148)).”

Proposed Eligibility Requirements: The Secretaries propose the following requirements a State must meet in order to be eligible to receive funds under this competition. We may apply one or more of these requirements in any year in which this program is in effect.

1. Eligible Applicants: States that meet the following requirements:

(a) The State has not previously received an RTT-ELC grant.

(b) The Lead Agency must have executed with each Participating State Agency a memorandum of understanding (MOU) or other binding agreement that the State must attach to its application, describing the Participating State Agency's level of participation in the grant. At a minimum, the MOU or other binding agreement must include an assurance that the Participating State Agency agrees to use, to the extent applicable—

(1) A set of statewide Early Learning and Development Standards;

(2) A set of statewide Program Standards;

(3) A statewide Tiered Quality Rating and Improvement System; and

(4) A statewide Workforce Knowledge and Competency Framework and progression of credentials.

(c) There must be an active Maternal, Infant, and Early Childhood Home Visiting (MIECHV) program in the State, either through the State under section 511(c) of Title V of the Social Security Act, as added by section 2951 of the Affordable Care Act of 2010 (Pub. L. 111-148), or through an eligible non-profit organization under section 511(h)(2)(B).

Proposed Application Requirements

Changes from the FY 2011 Competition: The Departments are not proposing any substantive changes to the application requirements that were included in the FY 2011 competition; however we made minor language changes for clarity.

The Secretaries propose the following application requirements for the application a State would submit for funding under this competition. We may apply one or more of these requirements in any year in which this program is in effect.

Each applicant must meet the following application requirements:

(a) The State's application must be signed by the Governor or an authorized representative; an authorized representative from the Lead Agency; and an authorized representative from each Participating State Agency.

(b) The State must submit a certification from the State Attorney General or an authorized representative that the State's description of, and statements and conclusions in its application concerning, State law, statute, and regulation are complete and accurate and constitute a reasonable interpretation of State law, statute, and regulation.

(c) The State must complete the budget spreadsheets that are provided in the application package and submit the completed spreadsheet as part of its application. These spreadsheets should be included on the CD or DVD that the State submits as its application.

(d) The State must submit preliminary scopes of work for each Participating State Agency as part of the executed MOU or other binding agreement. Each preliminary scope of work must describe the portions of the State's proposed plans that the Participating State Agency is agreeing to implement. If a State is awarded a RTT-ELC grant, the State will have up to 90 days to complete final scopes of work for each Participating State Agency.

(e) The State must include a budget that details how it will use grant funds awarded under this competition, and funds from other Federal, State, private, and local sources to achieve the outcomes of the State Plan (as described in proposed selection criterion (A)(4)(a)), and how the State will use funds awarded under this program to—

(1) Achieve its ambitious yet achievable targets for increasing the number and percentage of Early Learning and Development Programs that are participating in the State's Tiered Quality Rating and Improvement System (as described in selection criterion (B)(2)(c)); and

(2) Achieve its ambitious yet achievable targets for increasing the number and percentage of Children with High Needs who are enrolled in Early Learning and Development Programs that are in the top tiers of the State's Tiered Quality Rating and Improvement System (as described in selection criterion (B)(4)(c)).

(f) The State must provide an overall summary for the State Plan and a rationale for why it has chosen to address the selected criteria in each Focused Investment Area, including—

• How the State's choices build on its progress to date in each Focused Investment Area (as outlined in Tables (A)(1) 6-13 and the narrative under (A)(1)); and

• Why these selected criteria will best achieve the State's ambitious yet achievable goals for improving program quality, improving outcomes for Children with High Needs statewide, and closing the educational gaps between Children with High Needs and their peers.

(g) The State, within each Focused Investment Area, must select and address—

• Two or more selection criteria within Focused Investment Area (C) Promoting Early Learning and Development Outcomes for Children; and

• One or more selection criteria within Focused Investment Areas (D) A Great Early Childhood Education Workforce and (E) Measuring Outcomes and Progress.

(h) Where the State is submitting a High-Quality Plan, the State must include in its application a detailed plan that is feasible and includes, but need not be limited to—

(1) The key goals;

(2) The key activities to be undertaken; the rationale for the activities; and, if applicable, where in the State the activities will be initially implemented, and where and how they will be scaled up over time to eventually achieve statewide implementation;

(3) A realistic timeline, including key milestones, for implementing each key activity;

(4) The party or parties responsible for implementing each activity and other key personnel assigned to each activity;

(5) Appropriate financial resources to support successful implementation of the plan;

(6) The information requested as supporting evidence, if any, together with any additional information the State believes will be helpful to peer reviewers in judging the credibility of the plan;

(7) The information requested or required in the performance measures, where applicable;

(8) How the State will address the needs of the different types of Early Learning and Development Programs, if applicable; and

(9) How the State will meet the unique needs of Children with High Needs.

Proposed Program Requirements

Changes From the FY 2011 Competition

Program Requirement (a)

In program requirement (a), we propose requiring States to have an operational State Advisory Council on Early Childhood Education and Care that meets the requirements described in section 642B(b) of the Head Start Act (42 U.S.C. 9837(b)). The coordinated system of early learning and development plays a unique and important role interweaving the work required by the RTT-ELC grant. In addition, the State Advisory Council on Early Childhood Education and Care must include the State's Child Care and Development Fund administrator; State agency coordinators from both Part B section 619 and Part C of IDEA, and State agency representatives responsible for health and mental health. These State agency representatives explicitly oversee the child care work in the States and their participation adds value and raises the bar because of their content knowledge on child care subsidy, quality, and Quality Rating and Improvement System development.

We further propose to reorganize this program requirement into three paragraphs. Paragraph (a) Will address the State Advisory Council on Early Childhood Education and Care, paragraph (b) will address the IDEA, Part B and Part C programs and the Child Care Development Program, and paragraph (c) will require States to have an active Maternal, Infant, and Early Childhood Home Visiting (MIECHV) program for the duration of the grant. The remaining paragraphs in this requirement will be redesignated accordingly. These proposed changes will ensure State agencies continue to meet throughout the duration of their grant to assess implementation of their early learning activities for infants, toddlers, and preschoolers.

The revised Program Requirements are: “(a) The State must have an operational State Advisory Council on Early Childhood Education and Care that meets the requirements described in section 642B(b) of the Head Start Act (42 U.S.C. 9837(b)). In addition, the State Advisory Council on Early Childhood Education and Care must include the State's Child Care and Development Fund administrator, State agency coordinators from both Part B, section 619 and Part C of IDEA, and State agency representatives responsible for health and mental health;

(b) The State must continue to participate in the programs authorized under section 619 of Part B of IDEA and Part C of IDEA and in the Child Care Development Fund (CCDF) program.

(c) States must continue to have an active Maternal, Infant, and Early Childhood Home Visiting (MIECHV) program (pursuant to section 511 of Title V of the Social Security Act, as added by section 2951 of the Affordable Care Act of 2010 (Pub. L. 111-148)) for the duration of the grant, whether operated by the State or by an eligible non-profit organization.”

The original program requirements were: “(a) The State must continue to participate in the programs authorized under section 619 of Part B of IDEA and Part C of IDEA; in the CCDF program; and in the Maternal, Infant, and Early Childhood Home Visiting (MIECHV) program (pursuant to section 511 of Title V of the Social Security Act, as added by section 2951 of the Affordable Care Act of 2010 (Pub. L. 111-148)) for the duration of the grant.”

Proposed Program Requirements: The Secretaries propose the following program requirements for States receiving funds under this competition. We may apply one or more of these requirements in any year in which this program is in effect.

(a) The State must have an operational State Advisory Council on Early Childhood Education and Care that meets the requirements described in section 642B(b) of the Head Start Act (42 U.S.C. 9837(b)). In addition, the State Advisory Council on Early Childhood Education and Care must include the State's Child Care and Development Fund administrator, State agency coordinators from both Part B section 619 and Part C of IDEA, and State agency representatives responsible for health and mental health.

(b) The State must continue to participate in the programs authorized under section 619 of Part B of IDEA and Part C of IDEA and in the CCDF program.

(c) States must continue to have an active Maternal, Infant, and Early Childhood Home Visiting (MIECHV) program (pursuant to section 511 of Title V of the Social Security Act, as added by section 2951 of the Affordable Care Act of 2010 (Pub. L. 111-148)) for the duration of the grant, whether operated by the State or by an eligible non-profit organization.

(d) The State is prohibited from spending funds from the grant on the direct delivery of health services.

(e) The State must participate in RTT-ELC grantee technical assistance activities facilitated by ED or HHS, individually or in collaboration with other State grantees in order to share effective program practices and solutions and collaboratively solve problems, and must set aside $400,000 from its grant funds for this purpose.

(f) The State must—

(1) Comply with the requirements of any evaluation sponsored by ED or HHS of any of the State's activities carried out with the grant;

(2) Comply with the requirements of any cross-State evaluation—as part of a consortium of States—of any of the State's proposed reforms, if that evaluation is coordinated or funded by ED or HHS, including by using common measures and data collection instruments and collecting data necessary to the evaluation;

(3) Together with its independent evaluator, if any, cooperate with any technical assistance regarding evaluations provided by ED or HHS. The purpose of this technical assistance will be to ensure that the validation of the State's Tiered Quality Rating and Improvement System and any other evaluations conducted by States or their independent evaluators, if any, are of the highest quality and to encourage commonality in approaches where such commonality is feasible and useful;

(4) Submit to ED and HHS for review and comment its design for the validation of its Tiered Quality Rating and Improvement System (as described in selection criteria (B)(5)) and any other evaluations of activities included in the State Plan, including any activities that are part of the State's Focused Investment Areas, as applicable; and

(5) Make widely available through formal (e.g., peer-reviewed journals) or informal (e.g., newsletters) mechanisms, and in print or electronically, the results of any evaluations it conducts of its funded activities.

(g) The State must have a longitudinal data system that includes the 12 elements described in section 6401(e)(2)(D) of the America COMPETES Act by the date required under the State Fiscal Stabilization Fund (SFSF) grant and in accordance with Indicator (b)(1) of its approved SFSF plan.

(h) The State must comply with the requirements of all applicable Federal, State, and local privacy laws, including the requirements of the Family Educational Rights and Privacy Act, the Health Insurance Portability Accountability Act, and the privacy requirements in IDEA, and their applicable regulations.

(i) The State must ensure that the grant activities are implemented in accordance with all applicable Federal, State, and local laws.

(j) The State must provide researchers with access, consistent with the requirements of all applicable Federal State, and local privacy laws, to data from its Tiered Quality Rating and Improvement System and from the Statewide Longitudinal Data System and the State's coordinated early learning data system (if applicable) so that they can analyze the State's quality improvement efforts and answer key policy and practice questions.

(k) Unless otherwise protected as proprietary information by Federal or State law or a specific written agreement, the State must make any work (e.g., materials, tools, processes, systems) developed under its grant freely available to the public, including by posting the work on a Web site identified or sponsored by ED or HHS. Any Web sites developed under this grant must meet government or industry-recognized standards for accessibility (www.section508.gov/).

(l) Funds made available under an RTT-ELC grant must be used to supplement, not supplant, any Federal, State, or local funds that, in the absence of the funds awarded under this grant, would be available for increasing access to and improving the quality of Early Learning and Development Programs.

(m) For a State that is awarded an RTT-ELC grant, the State will have up to 90 days from the grant award notification date to complete final scopes of work for each Participating State Agency. These final scopes of work must contain detailed work plans that are consistent with their corresponding preliminary scopes of work and with the State's grant application, and must include the Participating State Agency's specific goals, activities, timelines, budgets, key personnel, and annual targets for key performance measures for the portions of the State's proposed plans that the Participating State Agency is agreeing to implement.

Proposed Budget Requirements

Changes From the FY 2011 competition

Budget Requirement

We propose reducing the funding band amounts from the FY 2011 levels to maximize the number of States that we can fund while providing each winning State with a large enough grant to support comprehensive plans. As in the FY 2011 competition, the Departments developed the following categories by ranking every State according to its share of the national population of children ages birth through five years old from Low-Income families and identifying the natural breaks in the rank order. Then, based on population, budget caps were developed for each category.⁹

⁹ Source: U.S. Department of Commerce, Census Bureau, 2009. American Community Survey (ACS) 1-year Public Use Microdata Sample (PUMS) data.

Proposed Budget Requirements

The Secretaries propose the following budget requirements for States receiving funds under this competition. We may apply these requirements in any year in which this program is in effect.

Category 1—Up to $75 million— Florida, New York, Texas.

Category 2—Up to $52.5 million—Arizona, Georgia, Michigan, Pennsylvania.

Category 3—Up to $45 million—Alabama, Indiana, Kentucky, Louisiana, Missouri, New Jersey, Oklahoma, Puerto Rico, South Carolina, Tennessee, Virginia.

Category 4—Up to $37.5 million—Alaska, Arkansas, Connecticut, District of Columbia, Hawaii, Idaho, Iowa, Kansas, Maine, Mississippi, Montana, Nebraska, New Hampshire, Nevada, North Dakota, South Dakota, Utah, Vermont, West Virginia, Wyoming.

Proposed Definitions

Changes from the FY 2011 competition: The Departments are not proposing any substantive changes to the definitions used in the FY 2011 competition. We propose only minor changes were made to the definitions of the terms “High Quality Plan” and to “Participating State Agency” to provide clarity.

Proposed Definitions: The Secretaries propose the following definitions for this program. We may apply one or more of these definitions in any year in which this program is in effect.

Children with High Needs means children from birth through kindergarten entry who are from Low-Income families or otherwise in need of special assistance and support, including children who have disabilities or developmental delays; who are English learners; who reside on “Indian lands” as that term is defined by section 8013(6) of the ESEA; who are migrant, homeless, or in foster care; and other children as identified by the State.

Common Education Data Standards (CEDS) means voluntary, common standards for a key set of education data elements (e.g., demographics, program participation, transition, course information) at the early learning, K-12, and postsecondary levels developed through a national collaborative effort being led by the National Center for Education Statistics. CEDS focus on standard definitions, code sets, and technical specifications of a subset of key data elements and are designed to increase data interoperability, portability, and comparability across Early Learning and Development Programs and agencies, States, local educational agencies, and postsecondary institutions.

Comprehensive Assessment System means a coordinated and comprehensive system of multiple assessments, each of which is valid and reliable for its specified purpose and for the population with which it will be used, that organizes information about the process and context of young children's learning and development in order to help Early Childhood Educators make informed instructional and programmatic decisions and that conforms to the recommendations of the National Research Council reports on early childhood.

A Comprehensive Assessment System includes, at a minimum—

(a) Screening Measures;

(b) Formative Assessments;

(c) Measures of Environmental Quality; and

(d) Measures of the Quality of Adult-Child Interactions.

Data System Oversight Requirements means policies for ensuring the quality, privacy, and integrity of data contained in a data system, including—

(a) A data governance policy that identifies the elements that are collected and maintained; provides for training on internal controls to system users; establishes who will have access to the data in the system and how the data may be used; sets appropriate internal controls to restrict access to only authorized users; sets criteria for determining the legitimacy of data requests; establishes processes that verify the accuracy, completeness, and age of the data elements maintained in the system; sets procedures for determining the sensitivity of each inventoried element and the risk of harm if those data were improperly disclosed; and establishes procedures for disclosure review and auditing; and

(b) A transparency policy that informs the public, including families, Early Childhood Educators, and programs, of the existence of data systems that house personally identifiable information, explains what data elements are included in such a system, enables parental consent to disclose personally identifiable information as appropriate, and describes allowable and potential uses of the data.

Early Childhood Educator means any professional working in an Early Learning and Development Program, including but not limited to center-based and family child care providers; infant and toddler specialists; early intervention specialists and early childhood special educators; home visitors; related services providers; administrators such as directors, supervisors, and other early learning and development leaders; Head Start teachers; Early Head Start teachers; preschool and other teachers; teacher assistants; family service staff; and health coordinators.

Early Learning and Development Program means any (a) State-licensed or State-regulated program or provider, regardless of setting or funding source, that provides early care and education for children from birth to kindergarten entry, including, but not limited to, any program operated by a child care center or in a family child care home; (b) preschool program funded by the Federal Government or State or local educational agencies (including any IDEA-funded program); (c) Early Head Start and Head Start program; and (d) a non-relative child care provider who is not otherwise regulated by the State and who regularly cares for two or more unrelated children for a fee in a provider setting. A State should include in this definition other programs that may deliver early learning and development services in a child's home, such as the Maternal, Infant and Early Childhood Home Visiting; Early Head Start; and Part C of IDEA.¹⁰

¹⁰ Note: Such home-based programs and services will most likely not participate in the State's Tiered Quality Rating and Improvement System unless the State has developed a set of Tiered Program Standards specifically for home-based programs and services.

Early Learning and Development Standards means a set of expectations, guidelines, or developmental milestones that—

(a) Describe what all children from birth to kindergarten entry should know and be able to do and their disposition toward learning;

(b) Are appropriate for each age group (e.g., infants, toddlers, and preschoolers); for English learners; and for children with disabilities or developmental delays;

(c) Cover all Essential Domains of School Readiness; and

(d) Are universally designed and developmentally, culturally, and linguistically appropriate.

Early Learning Intermediary Organization means a national, statewide, regional, or community-based organization that represents one or more networks of Early Learning and Development Programs in the State and that has influence or authority over them. Such Early Learning Intermediary Organizations include, but are not limited to, Child Care Resource and Referral Agencies; State Head Start Associations; Family Child Care Associations; State affiliates of the National Association for the Education of Young Children; State affiliates of the Council for Exceptional Children's Division of Early Childhood; statewide or regional union affiliates that represent Early Childhood Educators; affiliates of the National Migrant and Seasonal Head Start Association; the National Tribal, American Indian, and Alaskan Native Head Start Association; and the National Indian Child Care Association.

Essential Data Elements means the critical child, program, and workforce data elements of a coordinated early learning data system, including—

(a) A unique statewide child identifier or another highly accurate, proven method to link data on that child, including Kindergarten Entry Assessment data, to and from the Statewide Longitudinal Data System and the coordinated early learning data system (if applicable);

(b) A unique statewide Early Childhood Educator identifier;

(c) A unique program site identifier;

(d) Child and family demographic information, including indicators identifying the criteria that States use to determine whether a child is a Child with High Needs;

(e) Early Childhood Educator demographic information, including data on educational attainment and State credential or licenses held, as well as professional development information;

(f) Program-level data on the program's structure, quality, child suspension and expulsion rates, staff retention, staff compensation, work environment, and all applicable data reported as part of the State's Tiered Quality Rating and Improvement System; and

(g) Child-level program participation and attendance data.

Essential Domains of School Readiness means the domains of language and literacy development, cognition and general knowledge (including early mathematics and early scientific development), approaches toward learning, physical well-being and motor development (including adaptive skills), and social and emotional development.

Formative Assessment (also known as a classroom-based or ongoing assessment) means assessment questions, tools, and processes—

(a) That are—

(1) Specifically designed to monitor children's progress in meeting the Early Learning and Development Standards;

(2) Valid and reliable for their intended purposes and their target populations; and

(3) Linked directly to the curriculum; and

(b) The results of which are used to guide and improve instructional practices.

High-Quality Plan means any plan developed by the State to address a selection criterion or priority in this notice that is feasible and has a high probability of successful implementation and at a minimum includes—

(a) The key goals;

(b) The key activities to be undertaken; the rationale for the activities; and, if applicable, where in the State the activities will be initially implemented, and where and how they will be scaled up over time to eventually achieve statewide implementation;

(c) A realistic timeline, including key milestones, for implementing each key activity;

(d) The party or parties responsible for implementing each activity and other key personnel assigned to each activity;

(e) Appropriate financial resources to support successful implementation of the plan;

(f) The information requested as supporting evidence, if any, together with any additional information the State believes will be helpful to peer reviewers in judging the credibility of the plan;

(g) The information requested in the performance measures, where applicable;

(h) How the State will address the needs of the different types of Early Learning and Development Programs, if applicable; and

(i) How the State will meet the needs of Children with High Needs.

Kindergarten Entry Assessment means an assessment that—

(a) Is administered to children during the first few months of their admission into kindergarten;

(b) Covers all Essential Domains of School Readiness;

(c) Is used in conformance with the recommendations of the National Research Council¹¹ reports on early childhood; and

¹¹ National Research Council. (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. www.nap.edu/catalog.php?record_id=12446.

(d) Is valid and reliable for its intended purposes and for the target populations and aligned to the Early Learning and Development Standards.

Results of the assessment should be used to inform efforts to close the school readiness gap at kindergarten entry and to inform instruction in the early elementary school grades. This assessment should not be used to prevent children's entry into kindergarten.

Lead Agency means the State-level agency designated by the Governor for the administration of the RTT-ELC grant; this agency is the fiscal agent for the grant. The Lead Agency must be one of the Participating State Agencies.

Low-Income means having an income of up to 200 percent of the Federal poverty rate.

Measures of Environmental Quality means valid and reliable indicators of the overall quality of the early learning environment.

Measures of the Quality of Adult-Child Interactions means the measures obtained through valid and reliable processes for observing how teachers and caregivers interact with children, where such processes are designed to promote child learning and to identify strengths and areas for improvement for early learning professionals.

Participating State Agency means a State agency that administers public funds related to early learning and development and is participating in the State Plan. The following State agencies are required Participating State Agencies: the agencies that administer or supervise the administration of CCDF, the section 619 of Part B of IDEA and Part C of IDEA programs, State-funded preschool, home visiting, Title I of ESEA, the Head Start State Collaboration Grant, and the Title V Maternal and Child Care Block Grant, the State's Child Care Licensing Agency, and the State Education Agency. Other State agencies, such as the agencies that administer or supervise the administration of Child Welfare, Mental Health, Temporary Assistance for Needy Families (TANF), Community-Based Child Abuse Prevention, the Child and Adult Care Food Program, and the Adult Education and Family Literacy Act (AEFLA) may be Participating State Agencies if they elect to participate in the State Plan as well as the State Advisory Council on Early Childhood Education and Care.

Participating Program means an Early Learning and Development Program that elects to carry out activities described in the State Plan.

Program Standards means the standards that serve as the basis for a Tiered Quality Rating and Improvement System and define differentiated levels of quality for Early Learning and Development Programs. Program Standards are expressed, at a minimum, by the extent to which—

(a) Early Learning and Development Standards are implemented through evidence-based activities, interventions, or curricula that are appropriate for each age group of infants, toddlers, and preschoolers;

(b) Comprehensive Assessment Systems are used routinely and appropriately to improve instruction and enhance program quality by providing robust and coherent evidence of—

(1) Children's learning and development outcomes; and

(2) Program performance;

(c) A qualified workforce improves young children's health, social, emotional, and educational outcomes;

(d) Strategies are successfully used to engage families in supporting their children's development and learning. These strategies may include, but are not limited to, parent access to the program, ongoing two-way communication with families, parent education in child development, outreach to fathers and other family members, training and support for families as children move to preschool and kindergarten, social networks of support, intergenerational activities, linkages with community supports and adult and family literacy programs, parent involvement in decision making, and parent leadership development;

(e) Health promotion practices include health and safety requirements; developmental, behavioral, and sensory screening, referral, and follow up; and the promotion of physical activity, healthy eating habits, oral health and behavioral health, and health literacy among parents; and

(f) Effective data practices include gathering Essential Data Elements and entering them into the State's Statewide Longitudinal Data System or other early learning data system, using these data to guide instruction and program improvement, and making this information readily available to families.

Screening Measures means age and developmentally appropriate, valid, and reliable instruments that are used to identify children who may need follow-up services to address developmental, learning, or health needs in, at a minimum, the areas of physical health, behavioral health, oral health, child development, vision, and hearing.

State means any of the 50 States, the District of Columbia, and Puerto Rico.

State Plan means the plan submitted as part of the State's RTT-ELC application.

Statewide Longitudinal Data System means the State's longitudinal education data system that collects and maintains detailed, high-quality, student- and staff-level data that are linked across entities and that over time provide a complete academic and performance history for each student. The Statewide Longitudinal Data System is typically housed within the State educational agency but includes or can be connected to early childhood, postsecondary, and labor data.

Tiered Quality Rating and Improvement System means the system through which the State uses a set of progressively higher Program Standards to evaluate the quality of an Early Learning and Development Program and to support program improvement. A Tiered Quality Rating and Improvement System consists of four components: (a) Tiered Program Standards with multiple rating categories that clearly and meaningfully differentiate program quality levels; (b) monitoring to evaluate program quality based on the Program Standards; (c) supports to help programs meet progressively higher standards (e.g., through training, technical assistance, financial support); and (d) program quality ratings that are publically available; and includes a process for validating the system.

Workforce Knowledge and Competency Framework means a set of expectations that describes what Early Childhood Educators (including those working with children with disabilities and English learners) should know and be able to do. The Workforce Knowledge and Competency Framework, at a minimum, (a) Is evidence-based; (b) incorporates knowledge and application of the State's Early Learning and Development Standards, the Comprehensive Assessment Systems, child development, health, and culturally and linguistically appropriate strategies for working with families; (c) includes knowledge of early mathematics and literacy development and effective instructional practices to support mathematics and literacy development in young children; (d) incorporates effective use of data to guide instruction and program improvement; (e) includes effective behavior management strategies that promote positive social emotional development and reduce challenging behaviors; and (f) incorporates feedback from experts at the State's postsecondary institutions and other early learning and development experts and Early Childhood Educators.

Proposed Selection Criteria

Changes from the FY 2011 competition

Selection Criteria A(1)(a); A(1)(b); and (E)(1)(c)

Regarding selection criteria A(1)(a), A(1)(b), and (E)(1)(c), we propose two minor changes for the purpose of demonstrating past commitment. Successful State Systems selection criteria A(1)(a) and A(1)(b) have been updated to remove the reference to “January 2007” and change it to “the previous five years.” Additionally, in the Measuring Outcomes and Process selection criterion (E)(1)(c), we have updated the school year referenced from “2014-2015” to “ending during the fourth year of the grant.”

Selection Criteria (D)(2)(a)

In A Great Early Childhood Education Workforce selection criterion (D)(2)(a), additional language was added requiring proposed professional development opportunities be supported by evidence (e.g., evaluations, developmental theory, or data or information) demonstrating improved outcomes for Children with High Needs.

The revised selection criterion is: (a) Providing and expanding access to effective professional development opportunities that—

(1) Are aligned with the State's Workforce Knowledge and Competency Framework;

(2) Tightly link training with professional development approaches, such as coaching and mentoring; and

(3) Are supported by strong evidence (e.g. available evaluations, developmental theory, and/or data or information) as to why these policies and incentives will be effective in improving outcomes for Children with High Needs.

The original selection criterion for the reader's reference was: “(a) Providing and expanding access to effective professional development opportunities that are aligned with the State's Workforce Knowledge and Competency Framework;”.

Selection Criterion (D)(2)(b)

Additional language has been incorporated into selection criterion (D)(2)(b) of criteria (D)(2) Supporting Early Childhood Educators in improving their knowledge, skills, and abilities. The new language would require strong evidence as to why these policies and incentives will be effective in improving child outcomes.

The revised selection criterion is: (b) Implementing effective policies and incentives (e.g., scholarships, compensation and wage supplements, tiered reimbursement rates, other financial incentives, management opportunities) to promote professional improvement and career advancement along an articulated career pathway that—

(1) Are aligned with the State's Workforce Knowledge and Competency Framework;

(2) Tightly link training with professional development approaches, such as coaching and mentoring; and

(3) Are supported by strong evidence (e.g. available evaluations, developmental theory, or data or information) as to why these policies and incentives will be effective in improving outcomes for Children with High Needs.

The original selection criterion for the reader's reference was: (b) Implementing policies and incentives (e.g., scholarships, compensation and wage supplements, tiered reimbursement rates, other financial incentives, management opportunities) that promote professional improvement and career advancement along an articulated career pathway that is aligned with the Workforce Knowledge and Competency Framework, and that are designed to increase retention.

Proposed Selection Criteria

The Secretaries propose the following selection criteria for evaluating an application under this program. We may apply one or more of these criteria in any year in which this program is in effect. The Secretaries propose that they may use:

• One or more of the selection criteria established in the notice of final priorities, requirements, definitions, and selection criteria;

• Any of the selection criteria in 34 CFR 75.210;

• Criteria based on the statutory requirements for the RTT-ECL program in accordance with 34 CFR 75.209; or

• Any combination of these when establishing selection criteria for any RTT-ELC competition.

The Secretaries propose that they may further define each criterion by selecting specific factors for it. The Secretaries may select these factors from any selection criterion in the list below. In the notice inviting applications, the application package, or both we will announce the specific selection criteria that apply to a competition and the maximum possible points assigned to each criterion.

Core Areas—Sections (A) (Successful State Systems) and (B) (High-Quality, Accountable Programs) States must address in their application all of the selection criteria in the Core Areas.

A. Successful State Systems

(A)(1) Demonstrating past commitment to early learning and development.

The extent to which the State has demonstrated past commitment to and investment in high-quality, accessible Early Learning and Development Programs and services for Children with High Needs, as evidenced by the State's—

(a) Financial investment, from five years ago to the present, in Early Learning and Development Programs, including the amount of these investments in relation to the size of the State's population of Children with High Needs during this time period;

(b) Increasing, from the previous five years to the present, the number of Children with High Needs participating in Early Learning and Development Programs;

(c) Existing early learning and development legislation, policies, or practices; and

(d) Current status in key areas that form the building blocks for a high quality early learning and development system, including Early Learning and Development Standards, Comprehensive Assessment Systems, health promotion practices, family engagement strategies, the development of Early Childhood Educators, Kindergarten Entry Assessments, and effective data practices.

Evidence for (A)(1):

• The number and percentage of children from Low-Income families in the State, by age;

• The number and percentage of Children with High Needs from special populations in the State; and

• The number of Children with High Needs in the State who are enrolled in Early Learning and Development Programs, by age.

• Data currently available, if any, on the status of children at kindergarten entry (across Essential Domains of School Readiness, if available), including data on the readiness gap between Children with High Needs and their peers.

• Data currently available, if any, on program quality across different types of Early Learning and Development Programs.

• The number of Children with High Needs participating in each type of Early Learning and Development Program for each of the previous five years to the present.

• The number of Children with High Needs participating in each type of Early Learning and Development Program for each of the previous five years to the present.

• The current status of the State's Early Learning and Development Standards, for each of the Essential Domains of School Readiness, by age group of infants, toddlers, and preschoolers.

• The elements of a Comprehensive Assessment System currently required within the State by different types of Early Learning and Development Programs or systems.

• The elements of high-quality health promotion practices currently required within the State by different types of Early Learning and Development Programs or systems.

• The elements of a high-quality family engagement strategy currently required within the State by different types of Early Learning and Development Programs or systems.

• All early learning and development workforce credentials currently available in the State, including whether credentials are aligned with a State Workforce Knowledge and Competency Framework and the number and percentage of Early Childhood Educators who have each type of credential.

• The current status of postsecondary institutions and other professional development providers in the State that issue credentials or degrees to Early Childhood Educators.

• The current status of the State's Kindergarten Entry Assessment.

• All early learning and development data systems currently used in the State.

Performance Measures for (A)(1):

• None required.

(A)(2) Articulating the State's rationale for its early learning and development reform agenda and goals.

The extent to which the State clearly articulates a comprehensive early learning and development reform agenda that is ambitious yet achievable, builds on the State's progress to date (as demonstrated in selection criterion (A)(1)), is likely to result in improved school readiness for Children with High Needs, and includes—

(a) Ambitious yet achievable goals for improving program quality, improving outcomes for Children with High Needs statewide, and closing the educational gaps between Children with High Needs and their peers;

(b) An overall summary of the State Plan that clearly articulates how the High-Quality Plans proposed under each selection criterion, when taken together, constitute an effective reform agenda that establishes a clear and credible path toward achieving these goals; and

(c) A specific rationale that justifies the State's choice to address the selected criteria in each Focused Investment Area (C), (D), and (E), including why these selected criteria will best achieve these goals.

Evidence for (A)(2):

• The State's goals for improving program quality statewide over the period of this grant.

• The State's goals for improving child outcomes statewide over the period of this grant.

• The State's goals for closing the readiness gap between Children with High Needs and their peers at kindergarten entry.

• Identification of the two or more selection criteria that the State has chosen to address in Focused Investment Area (C).

• Identification of the one or more selection criteria that the State has chosen to address in Focused Investment Area (D).

• Identification of the one or more selection criteria that the State has chosen to address in Focused Investment Area (E).

• For each Focused Investment Area (C), (D), and (E), a description of the State's rationale for choosing to address the selected criteria in that Focused Investment Area, including how the State's choices build on its progress to date in each Focused Investment Area (as outlined in the narrative under (A)(1) in the application) and why these selected criteria will best achieve the State's ambitious yet achievable goals for improving program quality, improving outcomes for Children with High Needs statewide, and closing the educational gap between Children with High Needs and their peers.

Performance Measures for (A)(2):

• None required.

(A)(3) Aligning and coordinating early learning and development across the State.

The extent to which the State has established, or has a High-Quality Plan to establish, strong participation in and commitment to the State Plan by Participating State Agencies and other early learning and development stakeholders by—

(a) Demonstrating how the Participating State Agencies and other partners, if any, will identify a governance structure for working together that will facilitate interagency coordination, streamline decision making, effectively allocate resources, and create long-term sustainability, and describing—

(1) The organizational structure for managing the grant and how it builds upon existing interagency governance structures such as children's cabinets, councils, and commissions, if any already exist and are effective;

(2) The governance-related roles and responsibilities of the Lead Agency, the State Advisory Council on Early Childhood Education and Care, each Participating State Agency, and the State's Interagency Coordinating Council for Part C of IDEA, and other partners, if any;

(3) The method and process for making different types of decisions (e.g., policy, operational) and resolving disputes; and

(4) The plan for when and how the State will involve representatives from Participating Programs, Early Childhood Educators or their representatives, parents and families, including parents and families of Children with High Needs, and other key stakeholders in the planning and implementation of the activities carried out under the grant;

(b) Demonstrating that the Participating State Agencies are strongly committed to the State Plan, to the governance structure of the grant, and to effective implementation of the State Plan, by including in the MOUs or other binding agreements between the State and each Participating State Agency—

(1) Terms and conditions that reflect a strong commitment to the State Plan by each Participating State Agency, including terms and conditions designed to align and leverage the Participating State Agencies' existing funding to support the State Plan;

(2) “Scope-of-work” descriptions that require each Participating State Agency to implement all applicable portions of the State Plan and a description of efforts to maximize the number of Early Learning and Development Programs that become Participating Programs; and

(3) A signature from an authorized representative of each Participating State Agency; and

(c) Demonstrating commitment to the State Plan from a broad group of stakeholders that will assist the State in reaching the ambitious yet achievable goals outlined in response to selection criterion (A)(2)(a), including by obtaining—

(1) Detailed and persuasive letters of intent or support from Early Learning Intermediary Organizations, and, if applicable, local early learning councils; and

(2) Letters of intent or support from such other stakeholders as Early Childhood Educators or their representatives; the State's legislators; local community leaders; State or local school boards; representatives of private and faith-based early learning programs; other State and local leaders (e.g., business, community, tribal, civil rights, education association leaders); adult education and family literacy State and local leaders; family and community organizations; representatives from the disability community, the English learner community, and entities representing other Children with High Needs(e.g., parent councils, nonprofit organizations, local foundations, tribal organizations, and community-based organizations); libraries and children's museums; health providers; and postsecondary institutions.

Evidence for (A)(3) (a) and (b):

• For (A)(3)(a)(1): An organizational chart that shows how the grant will be governed and managed.

• Governance-related roles and responsibilities.

• A copy of all fully executed MOUs or other binding agreements that cover each Participating State Agency. (MOUs or other binding agreements should be referenced in the narrative but must be included in the Appendix to the application).

Evidence for (A)(3)(c)(1):

• A list of every Early Learning Intermediary Organization and local early learning council (if applicable) in the State that indicates which organizations and councils have submitted letters of intent or support.

• A copy of every letter of intent or support from Early Learning Intermediary Organizations and local early learning councils.

Evidence for (A)(3)(c)(2):

• A copy of every letter of intent or support from other stakeholders.

Performance Measures for (A)(3):

• None required.

(A)(4) Developing a budget to implement and sustain the work of this grant.

The extent to which the State Plan—

(a) Demonstrates how the State will use existing funds that support early learning and development from Federal, State, private, and local sources (e.g., CCDF; Title I and II of ESEA; IDEA; Striving Readers Comprehensive Literacy Program; State preschool; Head Start Collaboration funding; Maternal, Infant, and Early Childhood Home Visiting Program; Title V MCH Block Grant; TANF; Medicaid; child welfare services under Title IV (B) and (E) of the Social Security Act; Statewide Longitudinal Data System; foundation; other private funding sources) for activities and services that help achieve the outcomes in the State Plan, including how the quality set-asides in CCDF will be used;

(b) Describes, in both the budget tables and budget narratives, how the State will effectively and efficiently use funding from this grant to achieve the outcomes in the State Plan, in a manner that—

(1) Is adequate to support the activities described in the State Plan;

(2) Includes costs that are reasonable and necessary in relation to the objectives, design, and significance of the activities described in the State Plan and the number of children to be served; and

(3) Details the amount of funds budgeted for Participating State Agencies, localities, Early Learning Intermediary Organizations, Participating Programs, or other partners, and the specific activities to be implemented with these funds consistent with the State Plan, and demonstrates that a significant amount of funding will be devoted to the local implementation of the State Plan; and

(c) Demonstrates that it can be sustained after the grant period ends to ensure that the number and percentage of Children with High Needs served by Early Learning and Development Programs in the State will be maintained or expanded.

Evidence for (A)(4)(a):

• The existing funds to be used to achieve the outcomes in the State Plan.

• Description of how these existing funds will be used for activities and services that help achieve the outcomes in the State Plan.

Evidence for (A)(4)(b):

• The State's budget.

• The narratives that accompany and explain the budget, and describes how it connects to the State Plan.

Performance Measures for (A)(4):

• None required.

B. High-Quality, Accountable Programs

(B)(1) Developing and adopting a common, statewide Tiered Quality Rating and Improvement System.

The extent to which the State and its Participating State Agencies have developed and adopted, or have a High-Quality Plan to develop and adopt, a Tiered Quality Rating and Improvement System that—

(a) Is based on a statewide set of tiered Program Standards that include—

(1) Early Learning and Development Standards;

(2) A Comprehensive Assessment System;

(3) Early Childhood Educator qualifications;

(4) Family engagement strategies;

(5) Health promotion practices; and

(6) Effective data practices;

(b) Is clear and has standards that are measurable, meaningfully differentiate program quality levels, and reflect high expectations of program excellence commensurate with nationally recognized standards that lead to improved learning outcomes for children; and

(c) Is linked to the State licensing system for Early Learning and Development Programs.

Evidence for (B)(1):

• Each set of existing Program Standards currently used in the State and the elements that are included in those Program Standards (Early Learning and Development Standards, Comprehensive Assessment Systems, Qualified Workforce, Family Engagement, Health Promotion, Effective Data Practices, and Other).

• To the extent the State has developed and adopted a Tiered Quality Rating and Improvement System based on a common set of tiered Program Standards that meet the elements in criterion (B)(1)(a), submit—

○ A copy of the tiered Program Standards;

○ Documentation that the Program Standards address all areas outlined in the definition of Program Standards, demonstrate high expectations of program excellence commensurate with nationally recognized standards, and are linked to the States licensing system; and

○ Documentation of how the tiers meaningfully differentiate levels of quality.

Performance Measures for (B)(1):

• None required.

(B)(2) Promoting Participation in the State's Tiered Quality Rating and Improvement System.

The extent to which the State has maximized, or has a High-Quality Plan to maximize, program participation in the State's Tiered Quality Rating and Improvement System by—

(a) Implementing effective policies and practices to reach the goal of having all publicly funded Early Learning and Development Programs participate in such a system, including programs in each of the following categories—

(1) State-funded preschool programs;

(2) Early Head Start and Head Start programs;

(3) Early Learning and Development Programs funded under section 619 of Part B of IDEA and Part C of IDEA;

(4) Early Learning and Development Programs funded under Title I of the ESEA; and

(5) Early Learning and Development Programs receiving funds from the State's CCDF program;

(b) Implementing effective policies and practices designed to help more families afford high-quality child care and maintain the supply of high-quality child care in areas with high concentrations of Children with High Needs (e.g., maintaining or increasing subsidy reimbursement rates, taking actions to ensure affordable co-payments, providing incentives to high-quality providers to participate in the subsidy program); and

(c) Setting ambitious yet achievable targets for the numbers and percentages of Early Learning and Development Programs that will participate in the Tiered Quality Rating and Improvement System by type of Early Learning and Development Program (as listed in (B)(2)(a)(1) through (5) above).

Evidence for (B)(2):

• Any supporting evidence the State believes will be helpful to peer reviewers.

Performance Measures for (B)(2)(c):

General goals to be provided at time of application, including baseline data and annual targets:

• Number and percentage of Early Learning and Development Programs participating in the statewide Tiered Quality Rating and Improvement System, by type of Early Learning and Development Program.

(B)(3) Rating and monitoring Early Learning and Development Programs.

The extent to which the State and its Participating State Agencies have developed and implemented, or have a High-Quality Plan to develop and implement, a system for rating and monitoring the quality of Early Learning and Development Programs participating in the Tiered Quality Rating and Improvement System by—

(a) Using a valid and reliable tool for monitoring such programs, having trained monitors whose ratings have an acceptable level of inter-rater reliability, and monitoring and rating the Early Learning and Development Programs with appropriate frequency; and

(b) Providing quality rating and licensing information to parents with children enrolled in Early Learning and Development Programs (e.g., displaying quality rating information at the program site) and making program quality rating data, information, and licensing history (including any health and safety violations) publicly available in formats that are written in plain language, and are easy to understand and use for decision making by families selecting Early Learning and Development Programs and families whose children are enrolled in such programs.

Evidence for (B)(3):

• Any supporting evidence the State believes will be helpful to peer reviewers.

Performance Measures for (B)(3):

• None required.

(B)(4) Promoting access to high-quality Early Learning and Development Programs for Children with High Needs.

The extent to which the State and its Participating State Agencies have developed and implemented, or have a High-Quality Plan to develop and implement, a system for improving the quality of the Early Learning and Development Programs participating in the Tiered Quality Rating and Improvement System by—

(a) Developing and implementing policies and practices that provide support and incentives for Early Learning and Development Programs to continuously improve (e.g., through training, technical assistance, financial rewards or incentives, higher subsidy reimbursement rates, compensation);

(b) Providing supports to help working families who have Children with High Needs access high-quality Early Learning and Development Programs that meet those needs (e.g., providing full-day, full-year programs; transportation; meals; family support services); and

(c) Setting ambitious yet achievable targets for increasing—

(1) The number of Early Learning and Development Programs in the top tiers of the Tiered Quality Rating and Improvement System; and

(2) The number and percentage of Children with High Needs who are enrolled in Early Learning and Development Programs that are in the top tiers of the Tiered Quality Rating and Improvement System.

Evidence for (B)(4):

• Any supporting evidence the State believes will be helpful to peer reviewers.

Performance Measures for (B)(4)(c):

General goals to be provided at time of application, including baseline data and annual targets:

• Number of Early Learning and Development Programs in the top tiers of the Tiered Quality Rating and Improvement System, by type of Early Learning and Development Program.

• Number and Percentage of Children with High Needs who are enrolled in Early Learning and Development Programs that that are in the top tiers of the Tiered Quality Rating and Improvement System, by type of Early Learning and Development Program.

(B)(5) Validating the effectiveness of State Tiered Quality Rating and Improvement Systems.

The extent to which the State has a High-Quality Plan to design and implement evaluations—working with an independent evaluator and, when warranted, as part of a cross-State evaluation consortium—of the relationship between the ratings generated by the State's Tiered Quality Rating and Improvement System and the learning outcomes of children served by the State's Early Learning and Development Programs by—

(a) Validating, using research-based measures, as described in the State Plan (which also describes the criteria that the State used or will use to determine those measures), whether the tiers in the State's Tiered Quality Rating and Improvement System accurately reflect differential levels of program quality; and

(b) Assessing, using appropriate research designs and measures of progress (as identified in the State Plan), the extent to which changes in quality ratings are related to progress in children's learning, development, and school readiness.

Focused Investment Areas—Sections (C), (D), and (E)

Each State must address in its application—

(1) Two or more of the selection criteria in Focused Investment Area (C);

(2) One or more of the selection criteria in Focused Investment Area (D); and

(3) One or more of the selection criteria in Focused Investment Area (E).

Evidence for (B)(5):

• Any supporting evidence the State believes will be helpful to peer reviewers.

Performance Measures for (B)(5):

• None required.

C. Promoting Early Learning and Development Outcomes for Children.

The applicant must address at least two of the selection criteria within Focused Investment Area (C), which are as follows:

(C)(1) Developing and using statewide, high-quality Early Learning and Development Standards.

The extent to which the State has a High-Quality Plan to put in place high-quality Early Learning and Development Standards that are used statewide by Early Learning and Development Programs and that—

(a) Includes evidence that the Early Learning and Development Standards are developmentally, culturally, and linguistically appropriate across each age group of infants, toddlers, and preschoolers, and that they cover all Essential Domains of School Readiness;

(b) Includes evidence that the Early Learning and Development Standards are aligned with the State's K-3 academic standards in, at a minimum, early literacy and mathematics;

(c) Includes evidence that the Early Learning and Development Standards are incorporated in Program Standards, curricula and activities, Comprehensive Assessment Systems, the State's Workforce Knowledge and Competency Framework, and professional development activities; and

(d) The State has supports in place to promote understanding of and commitment to the Early Learning and Development Standards across Early Learning and Development Programs.

Evidence for (C)(1)(a) and (b):

• To the extent the State has implemented Early Learning and Development Standards that meet the elements in criteria (C)(1)(a) and (b), submit—

○ Proof of use by all types of Early Learning and Development Programs in the State;

○ The State's Early Learning and Development Standards for:

—Infants and toddlers

—Preschoolers

○ Documentation that the standards are developmentally, linguistically and culturally appropriate for all children, including children with disabilities and developmental delays and English Learners;

○ Documentation that the standards address all Essential Domains of School Readiness and that they are of high-quality; and

○ Documentation of the alignment between the State's Early Learning and Development Standards and the State's K-3 standards.

Performance Measures for (C)(1):

• None required.

(C)(2) Supporting effective uses of Comprehensive Assessment Systems.

The extent to which the State has a High-Quality Plan to support the effective implementation of developmentally appropriate Comprehensive Assessment Systems by—

(a) Working with Early Learning and Development Programs to select assessment instruments and approaches that are appropriate for the target populations and purposes;

(b) Working with Early Learning and Development Programs to strengthen Early Childhood Educators' understanding of the purposes and uses of each type of assessment included in the Comprehensive Assessment Systems;

(c) Articulating an approach for aligning and integrating assessments and sharing assessment results, as appropriate, in order to avoid duplication of assessments and to coordinate services for Children with High Needs who are served by multiple Early Learning and Development Programs; and

(d) Training Early Childhood Educators to appropriately administer assessments and interpret and use assessment data in order to inform and improve instruction, programs, and services.

Evidence for (C)(2):

• Any supporting evidence the State believes will be helpful to peer reviewers.

Performance Measures for (C)(2):

• None required.

(C)(3) Identifying and addressing the health, behavioral, and developmental needs of Children with High Needs to improve school readiness.

The extent to which the State has a High-Quality Plan to identify and address the health, behavioral, and developmental needs of Children with High Needs by—

(a) Establishing a progression of standards for ensuring children's health and safety; ensuring that health and behavioral screening and follow-up occur; and promoting children's physical, social, and emotional development across the levels of its Program Standards;

(b) Increasing the number of Early Childhood Educators who are trained and supported on an on-going basis in meeting the health standards;

(c) Promoting healthy eating habits, improving nutrition, expanding physical activity; and

(d) Leveraging existing resources to meet ambitious yet achievable annual targets to increase the number of Children with High Needs who—

(1) Are screened using Screening Measures that align with the Medicaid Early Periodic Screening, Diagnostic and Treatment benefit (see section 1905(r)(5) of the Social Security Act) or the well-baby and well-child services available through the Children's Health Insurance Program (42 CFR 457.520), and that, as appropriate, are consistent with the Child Find provisions in IDEA (see sections 612(a)(3) and 635(a)(5) of IDEA);

(2) Are referred for services based on the results of those screenings, and, where appropriate, received follow-up; and

(3) Participate in ongoing health care as part of a schedule of well-child care, including the number of children who are up to date in a schedule of well-child care.

Evidence for (C)(3)(a):

• To the extent the State has established a progression of health standards across the levels of Program Standards that meet the elements in criterion (C)(3)(a), submit—

○ The progression of health standards used in the Program Standards and the State's plans for improvement over time, including documentation demonstrating that this progression of standards appropriately addresses health and safety standards; developmental, behavioral, and sensory screening, referral, and follow-up; health promotion including healthy eating habits, improved nutrition, and increased physical activity; oral health; and social and emotional development; and health literacy among parents and children.

Evidence for (C)(3)(b):

• To the extent the State has existing and projected numbers and percentages of Early Childhood Educators who receive training and support in meeting the health standards, the State must submit documentation of these data. If the State does not have these data, the State must outline its plan for deriving them.

Evidence for (C)(3)(c):

Any supporting evidence the State believes will be helpful to peer reviewers.

Evidence for (C)(3)(d):

• Documentation of the State's existing and future resources that are or will be used to address the health, behavioral, and developmental needs of Children with High Needs. At a minimum, documentation must address the screening, referral, and follow-up of all Children with High Needs; how the State will promote the participation of Children with High Needs in ongoing health care as part of a schedule of well-child care; how the State will promote healthy eating habits and improved nutrition as well as increased physical activity for Children with High Needs; and how the State will promote health literacy for children and parents.

Performance Measures for (C)(3)(d):

General goals to be provided at time of application, including baseline data and annual targets:

• Number of Children with High Needs Screened.

• Number of Children with High Needs referred for services and received follow-up/treatment.

• Number of Children with High Needs that participate in ongoing health care as part of a schedule of well-child care.

• Of these participating Children with High Needs, the number or percentage of children who are up-to-date in receiving services as part of a schedule of well-child care.

(C)(4) Engaging and supporting families.

The extent to which the State has a High-Quality Plan to provide culturally and linguistically appropriate information and support to families of Children with High Needs in order to promote school readiness for their children by—

(a) Establishing a progression of culturally and linguistically appropriate standards for family engagement across the levels of its Program Standards, including activities that enhance the capacity of families to support their children's education and development;

(b) Increasing the number and percentage of Early Childhood Educators trained and supported on an on-going basis to implement the family engagement strategies included in the Program Standards; and

(c) Promoting family support and engagement statewide, including by leveraging other existing resources such as through home visiting programs, other family-serving agencies, and through outreach to family, friend, and neighbor caregivers.

Evidence for (C)(4)(a):

• To the extent the State has established a progression of family engagement standards across the levels of Program Standards that meet the elements in criterion (C)(4)(a), submit—

○ The progression of culturally and linguistically appropriate family engagement standards used in the Program Standards that includes strategies successfully used to engage families in supporting their children's development and learning. A State's family engagement standards must address, but need not be limited to: parent access to the program, ongoing two-way communication with families, parent education in child development, outreach to fathers and other family members, training and support for families as children move to preschool and kindergarten, social networks of support, intergenerational activities, linkages with community supports and adult and family literacy programs, parent involvement in decision making, and parent leadership development; and

○ Documentation that this progression of standards includes activities that enhance the capacity of families to support their children's education and development.

Evidence for (C)(4)(b):

• To the extent the State has existing and projected numbers and percentages of Early Childhood Educators who receive training and support on the family engagement strategies included in the Program Standards, the State must submit documentation of these data. If the State does not have these data, the State must outline its plan for deriving them.

Evidence for (C)(4)(c):

• Documentation of the State's existing resources that are or will be used to promote family support and engagement statewide, including through home visiting programs and other family-serving agencies and the identification of new resources that will be used to promote family support and engagement statewide.

Performance Measures for (C)(4)

• None required.

D. A Great Early Childhood Education Workforce

The applicant must address at least one of the selection criteria within Focused Investment Area (D), which are as follows:

(D)(1) Developing a Workforce Knowledge and Competency Framework and a progression of credentials.

The extent to which the State has a High-Quality Plan to—

(a) Develop a common, statewide Workforce Knowledge and Competency Framework designed to promote children's learning and development and improve child outcomes;

(b) Develop a common, statewide progression of credentials and degrees aligned with the Workforce Knowledge and Competency Framework; and

(c) Engage postsecondary institutions and other professional development providers in aligning professional development opportunities with the State's Workforce Knowledge and Competency Framework.

Evidence for (D)(1):

• To the extent the State has developed a common, statewide Workforce Knowledge and Competency Framework that meets the elements in criterion (D)(1), submit:

○ The Workforce Knowledge and Competencies;

○ Documentation that the State's Workforce Knowledge and Competency Framework addresses the elements outlined in the definition of Workforce Knowledge and Competency Framework in the Program Definitions section of this notice and is designed to promote children's learning and development and improve outcomes.

Performance Measures for (D)(1)

• None required.

(D)(2) Supporting Early Childhood Educators in improving their knowledge, skills, and abilities.

The extent to which the State has a High-Quality Plan to improve the effectiveness and retention of Early Childhood Educators who work with Children with High Needs, with the goal of improving child outcomes by—

(a) Providing and expanding access to effective professional development opportunities that—

(1) Are aligned with the State's Workforce Knowledge and Competency Framework;

(2) Tightly link training with professional development approaches, such as coaching and mentoring; and

(3) Are supported by strong evidence (e.g. available evaluations, developmental theory, and/or data or information) as to why these policies and incentives will be effective in improving outcomes for Children with High Needs;

(b) Implementing effective policies and incentives (e.g., scholarships, compensation and wage supplements, tiered reimbursement rates, other financial incentives, management opportunities) to promote professional improvement and career advancement along an articulated career pathway that—

(1) Are aligned with the State's Workforce Knowledge and Competency Framework;

(2) Tightly link training with professional development approaches, such as coaching and mentoring; and

(3) Are supported by strong evidence provided (e.g. available evaluations, developmental theory, or data or information) as to why these policies and incentives will be effective in improving outcomes for Children with High Needs;

(c) Publicly reporting aggregated data on Early Childhood Educator development, advancement, and retention; and

(d) Setting ambitious yet achievable targets for—

(1) Increasing the number of postsecondary institutions and professional development providers with programs that are aligned to the Workforce Knowledge and Competency Framework and the number of Early Childhood Educators who receive credentials from postsecondary institutions and professional development providers that are aligned to the Workforce Knowledge and Competency Framework; and

(2) Increasing the number and percentage of Early Childhood Educators who are progressing to higher levels of credentials that align with the Workforce Knowledge and Competency Framework.

Evidence for (D)(2):

• Evidence to support why the proposed professional development opportunities, policies, and incentives will be effective in improving outcomes for Children with High Needs (e.g. available evaluations, developmental theory, and/or data or information about the population of Children with High Needs in the State).

Performance Measures for (D)(2)(d):

General goals to be provided at time of application, including baseline data and annual targets:

• (D)(2)(d)(1): Number of postsecondary institutions and professional development providers that are aligned to the State's Workforce Knowledge and Competency Framework, and the number of Early Childhood Educators receiving credentials from those aligned postsecondary institutions or professional development providers.

• (D)(2)(d)(2): Number and percentage of Early Childhood Educators who are progressing to higher levels of credentials that align with the State's Workforce Knowledge and Competency Framework.

E. Measuring Outcomes and Progress

The applicant must address at least one of the selection criteria within Focused Investment Area (E), which are as follows:

(E)(1) Understanding the status of children's learning and development at kindergarten entry.

The extent to which the State has a High-Quality Plan to implement, independently or as part of a cross-State consortium, a common, statewide Kindergarten Entry Assessment that informs instruction and services in the early elementary grades and that—

(a) Is aligned with the State's Early Learning and Development Standards and covers all Essential Domains of School Readiness;

(b) Is valid, reliable, and appropriate for the target population and for the purpose for which it will be used, including for English learners and children with disabilities;

(c) Is administered beginning no later than the start of school year ending during the fourth year of the grant to children entering a public school kindergarten; States may propose a phased implementation plan that forms the basis for broader statewide implementation;

(d) Is reported to the Statewide Longitudinal Data System, and to the early learning data system, if it is separate from the Statewide Longitudinal Data System, as permitted under and consistent with the requirements of Federal, State, and local privacy laws; and

(e) Is funded, in significant part, with Federal or State resources other than those available under this grant, (e.g., with funds available under section 6111 or 6112 of the ESEA).

Evidence for (E)(1):

• Any supporting evidence the State believes will be helpful to peer reviewers.

Performance Measures for (E)(1):

• None required.

(E)(2) Building or enhancing an early learning data system to improve instruction, practices, services, and policies.

The extent to which the State has a High-Quality Plan to enhance the State's existing Statewide Longitudinal Data System or to build or enhance a separate, coordinated, early learning data system that aligns and is interoperable with the Statewide Longitudinal Data System, and that either data system—

(a) Has all of the Essential Data Elements;

(b) Enables uniform data collection and easy entry of the Essential Data Elements by Participating State Agencies and Participating Programs;

(c) Facilitates the exchange of data among Participating State Agencies by using standard data structures, data formats, and data definitions such as Common Education Data Standards to ensure interoperability among the various levels and types of data;

(d) Generates information that is timely, relevant, accessible, and easy for Early Learning and Development Programs and Early Childhood Educators to use for continuous improvement and decision making; and

(e) Meets the Data System Oversight Requirements and complies with the requirements of Federal, State, and local privacy laws.

Evidence for (E)(2):

• Any supporting evidence the State believes will be helpful to peer reviewers.

Performance Measures for (E)(2):

• None required.

Final Priorities, Requirements, Definitions, and Selection Criteria:

We will announce the final priorities, requirements, definitions, and selection criteria in the Federal Register. We will determine the final priorities, requirements, definitions, and selection criteria, after considering responses to this notice and other information available to the Departments. This notice does not preclude us from proposing additional priorities, requirements, definitions, or selection criteria, subject to meeting applicable rulemaking requirements.

Note: This notice does not solicit applications. In any year in which we choose to these priorities, requirements, definitions, and selection criteria, we invite applications through a notice in the Federal Register.

Executive Orders 12866 and 13563

Regulatory Impact Analysis

Under Executive Order 12866, the Secretaries must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action would have an annual effect on the economy of more than $100 million because the Departments anticipate more than that amount will be appropriated for RTT-ELC and awarded as grants. Therefore, this proposed action is “economically significant” and subject to review by OMB under section 3(f)(1) of Executive Order 12866. Notwithstanding this determination, we have assessed the potential costs and benefits, both quantitative and qualitative, of this proposed regulatory action and have determined that the benefits would justify the costs.

The Departments also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are proposing these priorities, requirements, definitions, and selection criteria only on a reasoned determination that their benefits would justify their costs. In choosing among alternative regulatory approaches, we selected those approaches that would maximize net benefits.

Based on the analysis that follows, the Departments believe that this regulatory action is consistent with the principles in Executive Order 13563.

We also have determined that this proposed regulatory action would not unduly interfere with State, local, and tribal governments in the exercise of their governmental functions.

In this regulatory impact analysis we discuss the need for regulatory action, the potential costs and benefits, net budget impacts, assumptions, limitations, and data sources, as well as regulatory alternatives we considered.

Discussion of Costs and Benefits

The Secretaries believe that the proposed priorities, requirements, definitions, and selection criteria would not impose significant costs on eligible States. States that applied for a grant under the FY 2011 RTT-ELC competition reported that they found the application process to be useful in organizing their early childhood planning efforts because the priorities, requirements, definitions, and selection criteria provided them with direction and structure for developing a State High-Quality Early Learning plan. Several unfunded States then used their prepared application as their State's strategic early learning plan. In addition, the proposed priorities, requirements, definitions, and selection criteria, in particular those related to maintaining conditions of reform required under the FY 2011 RTT-ELC competition, would require continuation of existing commitments and investments rather than the imposition of additional burdens and costs for applicant States. The Departments believe, therefore, that those States that previously applied but did not receive funding would incur minimal costs in developing an application.

In addition, because the Departments are maintaining the criteria and priorities of the FY 2011 competition, States that did not previously apply can draw upon the posted applications and reviewer comments from the FY 2011 competition. These resources will minimize burden for all applicants. The Departments believe therefore that the benefits of developing an application for this competition outweigh the costs.

We believe that States will significantly benefit from the application process because it will require them to build strong relationships between State agencies and early learning non-profit organizations and consider how to use Federal, State, and local funding streams to best support early learning. A further benefit is that the proposed priorities, requirements, definitions, and selection criteria would result in the selection of high-quality grantees that are most likely to successfully implement RTT-ELC grants in the manner that the Departments believe will best enable the program to achieve its objective of creating the conditions for effective reform in State early learning systems.

The proposed priorities, requirements, definitions, and selection criteria clarify the scope of activities the Secretaries expect to support with program funds. The pool of possible interested applicants is limited to State applicants that have not previously received an RTT-ELC grant. Potential applicants need to consider carefully the effort that will be required to prepare a strong application, their capacity to implement projects successfully, and their chances of submitting a successful application.

Program participation is voluntary. The Secretaries believe that the costs imposed on applicants by the proposed priorities, requirements, definitions, and selection criteria would be limited to paperwork burden related to preparing an application and that the benefits of implementing these proposals would outweigh any costs incurred by applicants. The costs of carrying out activities associated with the application would be paid for with program funds. Thus, the costs of implementation would not be a burden for eligible applicants, including small entities.

Elsewhere in this document, under Paperwork Reduction Act of 1995, we identify and explain burdens specifically associated with information collection requirements.

Regulatory Alternatives Considered

An alternative to promulgating these priorities, requirements, definitions, and selection criteria would be to use FY 2013 Race to the Top funds to make awards to the remaining highest-scoring unfunded applications from the FY 2011 RTT-ELC competition. However, the Departments have determined that funding applications from the FY 2011 competition would result in funding applications that are likely outdated and of only moderate quality, having received fewer than 75 percent of the total points available in the FY 2011 competition. The Departments have determined that $300 million is a sufficient amount to hold a high-quality competition and that holding a new competition will result in higher quality applications than those submitted in FY 2011, due to progress made in early learning systems during the last two years.

The Departments also could have decided to make significant changes to the priorities, requirements, definitions, and selection criteria rather than making only the few changes proposed here. However, we have determined that making significant changes would be unduly burdensome on applicants who will rely on their FY 2011 efforts to prepare an updated application and that maintaining substantially the same priorities, requirements, definitions, and selection criteria will better enable the Departments to conduct an evaluation of the performance of grantees under the RTT-ELC program overall.

To assist the Departments in complying with the requirements of Executive Order 12866, the Secretaries invite comments on whether there may be further opportunities to reduce any potential costs or increase potential benefits resulting from these proposed priorities, requirements, definitions, and selection criteria without impeding the effective and efficient administration of the RTT-ELC program.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the Federal payments to be made to States under this program as a result of this regulatory action. Expenditures are classified as transfers to States.

Accounting Statement Classification of Estimated Expenditures
[in millions]
Category | Transfers
Annualized Monetized Transfers | $300,000,000.
From Whom To Whom? | From the Federal Government to States.

The FY 2013 RTT-ELC competition process would provide approximately $300 million in competitive grants to eligible applicants.

Regulatory Flexibility Act Certification

The Secretaries certify that this proposed regulatory action will not have a significant economic impact on a substantial number of small entities. This proposed regulatory action will not have a significant economic impact on small entities (such as subaward recipients) as States are not small entities within the meaning of the Regulatory Flexibility Act.

The Secretaries invite comments from small entities as to whether they believe this proposed regulatory action would have a significant economic impact on them and, if so, request evidence to support that belief.

Paperwork Reduction Act of 1995

As part of its continuing effort to reduce paperwork and respondent burden, the Departments will conduct a preclearance consultation program to provide the general public and Federal agencies with an opportunity to comment on proposed collections of information in accordance with the Paperwork Reduction Act of 1995 (PRA) (44 U.S.C. 3506(c)(2)(A)). This helps ensure that: The public understands the Departments' collection instructions, respondents can provide the requested data in the desired format, reporting burden (time and financial resources) is minimized, collection instruments are clearly understood, and the Departments can properly assess the impact of collection requirements on respondents.

We estimate that each applicant would spend approximately 225 hours of staff time to address the proposed priorities, requirements, definitions, and selection criteria, prepare the application, and obtain necessary clearances. The total number of hours for all applicants will vary based on the number of applications. Based on the number of applications received in the FY 2011 competition, we expect to receive approximately 38 applications for these funds. The total number of hours for all expected applicants is an estimated 8,550 hours. We estimate the total cost per hour of the applicant-level staff who carry out this work to be $30 per hour. The total estimated cost for all applicants would be $256,500. We have submitted a new Information Collection Request (ICR) for the information collection requirements, under OMB control number 1810—New, to OMB.

If you want to comment on the proposed information collection requirements, please submit your comments through the Federal eRulemaking Portal at by selecting Docket ID number [insert FDMS Docket number] or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Departments, in accordance with the Paperwork Reduction Act of 1995 (PRA) (44 U.S.C. 3506(c)(2)(A)), provides the general public and Federal agencies with an opportunity to comment on proposed, revised, and continuing collections of information. This helps the Departments assess the impact of the information collection requirements and minimize the public's reporting burden. It also helps the public understand the Departments' information collection requirements and provide the requested data in the desired format. The Departments are soliciting comments on the proposed information collection request (ICR) that is described below. The Departments are especially interested in public comment addressing the following issues: (1) Is this collection necessary to the proper functions of the Departments; (2) will this information be processed and used in a timely manner; (3) is the estimate of burden accurate; (4) how might the Departments enhance the quality, utility, and clarity of the information to be collected; and (5) how might the Departments minimize the burden of this collection on the respondents, including through the use of information technology. Please note that written comments received in response to this notice will be considered public records.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of the Departments' specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents from both Departments published in the Federal Register, in text or Adobe Portable Document Format (PDF). To use PDF you must have Adobe Acrobat Reader, which is available free at the site.

You may also access documents of the Departments published in the Federal Register by using the article search feature at: www.federalregister.gov. Specifically, through the advanced search feature at this site, you can limit your search to documents published by either Department.

Dated: May 14, 2013.
Deborah S. Delisle,
Assistant Secretary for Elementary and Secondary Education, U.S. Department of Education.
George Sheldon,
Acting Assistant Secretary for Children and Families, U.S. Department of Health and Human Services.

[FR Doc. 2013-11821 Filed 5-17-13; 8:45 am]

BILLING CODE 4000-1-P